DEPARTMENT OF THE TREASURY

Executive Office for Asset Forfeiture; Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Executive Office for Asset Forfeiture within the Department of the Treasury is soliciting comments concerning the Request for Transfer of Property Seized/Forfeited by a Treasury Agency, TD F 92-22.46.

DATES: Written comments should be received on or before December 17, 2014 to be assured of consideration.

ADDRESSES: Direct all written comments to the Department of the Treasury, Executive Office for Asset Forfeiture, Attn: Jackie A. Jackson, 1341 G Street 9th Floor NW., Washington, DC 20005. Telephone: (202) 622-2755. Email Address: Jackie.Jackson@Treasury.gov.

FOR FURTHER INFORMATION CONTACT: Requests for additional information or copies of the form(s) and instructions should be directed to the Department of the Treasury. Executive Office for Asset Forfeiture, Attn: Jackie A. Jackson, 1341 G Street 9th Floor NW., Washington, DC 20005. Telephone: (202) 622-2755. Email Address: Jackie.Jackson@Treasury.gov.

SUPPLEMENTARY INFORMATION:

Title: Request for Transfer of Property Seized/Forfeited by a Treasury Agency, TD F 92-22.46.

OMB Number: 1505-0152.

Form Number: TD F 92-22.46.

Abstract: The form was developed to capture the minimum amount of data necessary to process the application for equitable sharing benefits. Only one form is required per seizure. If a law enforcement agency does not make this one time application for benefits under the equitable sharing process, the agency will not benefit from the forfeiture process.

Current Actions: This is a notice for the continued use of the established form. There is one proposed change to the form or instructions. Under I. Seizing Agency (For Treasury Forfeiture Fund Participating Agency Use Only) Case Type: Adoption or Joint will be removed from the form.

Type of Review: Extension with changes.

Affected Public: Federal, State and local law enforcement agencies participating in the Treasury asset sharing program.

Estimated Number of Respondents: 7,000.

Estimated Time per Respondent: 30 Minutes.

Estimated Total Annual Burden Hours: 2,500.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

John Farley,
Acting Director, Department of the Treasury, Executive Office for Asset Forfeiture.

[FR Doc. 2014-24831 Filed 10-17-14; 8:45 am]

BILLING CODE 4810-25-P